DEPARTMENT OF COMMERCE

Bureau of Economic Analysis

Annual Survey of Construction, Engineering, Architectural, and Mining Services Provided by U.S. Firms to Unaffiliated Foreign Persons

ACTION: Proposed collection; comment request.

SUMMARY: The Department of Commerce, as part of its continuing effort to reduce paperwork and respondent burden, invites the general public and other Federal agencies to comment on proposed and/or continuing information collections, as required by the Paperwork Reduction Act of 1995, Pub. L. 104-13 (44 U.S.C. 3506(c)(2)(A)).

DATES: Written comments must be submitted on or before August 20, 2001.

ADDRESSES: Direct all written comments to Madeleine Clayton, Departmental Paperwork Clearance Officer, Department of Commerce, Room 6086, 14th and Constitution Avenue, NW., Washington DC 20230.

FOR FURTHER INFORMATION CONTACT: Requests for additional information or copies of the information collection instruments and instructions should be directed to: R. David Belli, U.S. Department of Commerce, Bureau of Economic Analysis, BE-50 (OC), Washington DC 20230 (Telephone: 202-606-9800).

SUPPLEMENTARY INFORMATION:

I. Abstract

The Annual Survey of Construction, Engineering, Architectural, and Mining Services Provided by U.S. Firms to Unaffiliated Foreign Persons (Form BE-47) obtains reliable and up-to-date information on U.S. sales to unaffiliated foreign persons of construction, engineering, architectural, and mining services. The information gathered is needed, among other purposes, to support U.S. trade policy initiatives and to compile the U.S. international transactions, input-output, and national income and product accounts. No changes are being proposed for Form BE-47.

II. Method of Collection

The BE-47 survey will be sent each year to potential respondents in January and responses are due by March 31. A U.S. person providing construction, engineering, architectural, or mining services to unaffiliated foreign persons is required to report if the gross value of new contracts received or the gross operating revenues from all existing contracts is $1 million or more during the covered year. A U.S. person that receives a form but is not required to report data must file an exemption claim.

III. Data

OMB Number: 0608-0015.

Form Number: BE-47.

Type of Review: Regular submission.

Affected Public: Businesses or other for-profit institutions providing construction, engineering, architectural, and mining services to unaffiliated foreign persons.

Estimated Number of Respondents: 155 annually.

Estimated Time Per Response: 4.5 hours.

Estimated Total Annual Burden: 700 hours.

Estimated Total Annual Cost: $21,000 (based on an estimated reporting burden of 700 hours and estimated hourly cost of $30).

Respondent's Obligation: Mandatory.

Legal Authority: Title 22, United States Code, Sections 3101-3108.

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also will become a matter of public record.

Dated: June 14, 2001.
Madeleine Clayton,
Departmental Paperwork Clearance Officer, Office of the Chief Information Officer.

[FR Doc. 01-15428 Filed 6-18-01; 8:45 am]

BILLING CODE 3510-06-P